SMALL BUSINESS ADMINISTRATION

[Disaster Declaration #11409 and #11410]

Florida Disaster Number FL-00035.

AGENCY: U.S. Small Business Administration.

ACTION: Amendment 4.

SUMMARY: This is an amendment of the Presidential declaration of a major disaster for the State of Florida (FEMA-1785-DR), dated 08/26/2008.

Incident: Tropical Storm Fay.

Incident Period: 08/18/2008 through 09/12/2008.

Effective Date: 09/11/2008.

Physical Loan Application Deadline Date: 10/27/2008.

EIDL Loan Application Deadline Date: 05/26/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Florida, dated 08/26/2008 is hereby amended to include the following areas as adversely affected by the disaster:

Primary Counties: (Physical Damage and Economic Injury Loans):

Baker, Collier, Glades, Jefferson, Lake, Marion, Nassau, Orange, Polk.

Contiguous Counties: (Economic Injury Loans Only):

Florida: Alachua, Bradford, Citrus, Columbia, Desoto, Hardee, Hillsborough, Levy, Madison, Manatee, Miami-Dade, Monroe, Pasco, Sumter, Taylor, Union.

Georgia: Brooks, Camden, Charlton, Clinch, Ware.

All other information in the original declaration remains unchanged.

(Catalog of Federal Domestic Assistance Numbers 59002 and 59008)

James E. Rivera,
Acting Associate Administrator for Disaster Assistance.

[FR Doc. E8-22182 Filed 9-22-08; 8:45 am]

BILLING CODE 8025-01-P